DEPARTMENT OF COMMERCE

International Trade Administration

[A-580-870]

Certain Oil Country Tubular Goods From the Republic of Korea: Notice of Court Decision Not in Harmony With the Results of Antidumping Duty Administrative Review; Notice of Amended Final Results; Correction

AGENCY: Enforcement and Compliance, International Trade Administration, Department of Commerce.

ACTION: Notice; correction.

SUMMARY: The U.S. Department of Commerce (Commerce) published notice in the Federal Register of December 27, 2023, in which Commerce provided notice of a court decision which was not in harmony with the results of the 2019-2020 antidumping duty (AD) administrative review of certain oil country tubular goods from Korea and announced amended final results for that administrative review. This notice contained incorrect information concerning the cash deposit requirements.

FOR FURTHER INFORMATION CONTACT: Mike Heaney or Mark Flessner, AD/CVD Operations, Office VI, Enforcement and Compliance, International Trade Administration, U.S. Department of Commerce, 1401 Constitution Avenue NW, Washington, DC 20230; telephone: (202) 482-4475 or (202) 482-6312, respectively.

SUPPLEMENTARY INFORMATION:

Correction

In the Federal Register of December 27, 2023, in FR Doc. 2023-28526, on page 89371, in the first column, correct the paragraph entitled “Cash Deposit Requirements” to read as follows: Because AJU Besteel, Husteel, Hyundai Steel, and NEXTEEL do not have a superseding cash deposit rate, i.e., there have been no final results published in a subsequent administrative review of certain oil country tubular goods from Korea,¹ and because of the change to the rate assigned to all other producers and exporters of subject merchandise, Commerce will issue revised cash deposit instructions to U.S. Customs and Border Protection.

¹ Commerce rescinded the 2020-2021 AD administrative review. See Rescission of Antidumping and Countervailing Duty Administrative Reviews, 87 FR 24097 (April 22, 2022). Commerce has not yet completed the 2021-2022 AD administrative review. See Certain Oil Country Tubular Goods from the Republic of Korea: Preliminary Results of Antidumping Duty Administrative Review and Preliminary Determination of No Shipments; 2021-2022, 88 FR 69118 (October 5, 2023).

Background

On December 27, 2023, Commerce published in the Federal Register the OCTG from Korea Notice of Amended Final Results.² This notice contained incorrect information concerning the cash deposit requirements.

² See Certain Oil Country Tubular Goods from the Republic of Korea: Notice of Court Decision Not in Harmony with the Results of Antidumping Duty Administrative Review; Notice of Amended Final Results, 88 FR 89370 (December 27, 2023) (OCTG from Korea Notice of Amended Final Results).

Notification to Interested Parties

This notice is issued and published in accordance with sections 516(A)(c) and (e) and 777(i)(1) of the Tariff Act of 1930, as amended.

Dated: January 8, 2024.
Abdelali Elouaradia,
Deputy Assistant Secretary for Enforcement and Compliance.

[FR Doc. 2024-00570 Filed 1-11-24; 8:45 am]

BILLING CODE 3510-DS-P